INTERNATIONAL TRADE COMMISSION

[Investigation Nos. 731-TA-1629-1631, 1633, 1636-1638, and 1640 (Final)]

Mattresses From Bosnia and Herzegovina, Bulgaria, Burma, Italy, Philippines, Poland, Slovenia, and Taiwan; Determinations

On the basis of the record ¹ developed in the subject investigations, the United States International Trade Commission (“Commission”) determines, pursuant to the Tariff Act of 1930 (“the Act”), that an industry in the United States is materially injured by reason of imports of mattresses from Bosnia and Herzegovina, Bulgaria, Burma, Italy, Philippines, Poland, Slovenia, and Taiwan, provided for in subheadings 9404.21.00, 9404.29.10, and 9404.29.90 of the Harmonized Tariff Schedule of the United States, that have been found by the U.S. Department of Commerce (“Commerce”) to be sold in the United States at less than fair value (“LTFV”).2 3

¹ The record is defined in § 207.2(f) of the Commission's Rules of Practice and Procedure (19 CFR 207.2(f)).

² 89 FR 42448 (Bosnia and Herzegovina), 89 FR 42443 (Bulgaria), 89 FR 42427 (Burma), 89 FR 42429 (Italy), 89 FR 42432 (Philippines), 89 FR 42435 (Poland), 89 FR 42437 (Slovenia), 89 FR 42439 (Taiwan), May 15, 2024.

³ The Commission finds that imports subject to Commerce's affirmative critical circumstances determinations on Burma are likely to undermine seriously the remedial effect of the antidumping duty order. Commissioner David S. Johanson dissents with respect to the Commission's affirmative critical circumstances finding on imports of mattresses from Burma. The Commission also finds that imports subject to Commerce's affirmative critical circumstances determinations on Bosnia and Herzegovina, Italy, Philippines, and Taiwan are not likely to undermine seriously the remedial effect of the antidumping duty orders. Commissioner Jason E. Kearns dissents with respect to the Commission's negative critical circumstances finding on imports of mattresses from Bosnia and Herzegovina.

Background

The Commission instituted these investigations effective July 28, 2023, following receipt of petitions filed with the Commission and Commerce by Brooklyn Bedding LLC, Phoenix, Arizona; Carpenter Company, Richmond, Virginia; Corsicana Mattress Company, Dallas, Texas; Future Foam, Inc., Council Bluffs, Iowa; FXI, Inc., Radnor, Pennsylvania; Kolcraft Enterprises, Inc., Chicago, Illinois; Leggett & Platt, Incorporated, Carthage, Missouri; Serta Simmons Bedding, Inc., Doraville, Georgia; Southerland Inc., Antioch, Tennessee; Tempur Sealy International, Inc., Lexington, Kentucky; the International Brotherhood of Teamsters, Washington, DC; and the United Steel, Paper and Forestry, Rubber, Manufacturing, Energy, Allied Industrial and Service Workers International Union, AFL-CIO, Washington, DC. The Commission scheduled the final phase of the investigations following notification of preliminary determinations by Commerce that imports of mattresses from Bosnia and Herzegovina, Bulgaria, Burma, Italy, Philippines, Poland, Slovenia, and Taiwan were being sold at LTFV within the meaning of § 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register of March 6, 2024 (89 FR 16026). The Commission conducted its hearing on May 9, 2024. All persons who requested the opportunity were permitted to participate.

The Commission made these determinations pursuant to § 735(b) of the Act (19 U.S.C. 1673d(b)). It completed and filed its determinations in these investigations on June 28, 2024. The views of the Commission are contained in USITC Publication 5520 (June 2024), entitled Mattresses from Bosnia and Herzegovina, Bulgaria, Burma, Italy, Philippines, Poland, Slovenia, and Taiwan: Investigation Nos. 731-TA-1629-1631, 1633, 1636-1638, and 1640 (Final).

By order of the Commission.
Issued: June 28, 2024.
Sharon Bellamy,
Supervisory Hearings and Information Officer.

[FR Doc. 2024-14697 Filed 7-3-24; 8:45 am]

BILLING CODE 7020-02-P